DEPARTMENT OF COMMERCE

International Trade Administration

[A-570-053]

Certain Aluminum Foil From the People's Republic of China: Final Results of Antidumping Duty Administrative Review and Final Determination of No Shipments; 2019-2020

AGENCY: Enforcement and Compliance, International Trade Administration, Department of Commerce.

SUMMARY: The Department of Commerce (Commerce) finds that exporters of certain aluminum foil (aluminum foil) from the People's Republic of China (China) made sales of subject merchandise at prices less than normal value during the period of review (POR) April 1, 2019, through March 31, 2020.

DATES: Applicable January 7, 2022.

FOR FURTHER INFORMATION CONTACT: Scarlet Jaldin or Michael J. Heaney AD/CVD Operations, Office VI, Enforcement and Compliance, International Trade Administration, U.S. Department of Commerce, 1401 Constitution Avenue NW, Washington, DC 20230; telephone: (202) 482-4275 or (202) 482-4475 respectively.

SUPPLEMENTARY INFORMATION:

Background

Commerce published the Preliminary Results on July 7, 2021.¹ On October 28, 2021, and December 14, 2021, in accordance with section 751(a)(3)(A) of the Tariff Act of 1930, as amended (the Act), Commerce extended the deadline for issuing the final results, until December 30, 2021.² For a complete description of the events that occurred since the Preliminary Results, see the Issues and Decision Memorandum.³

¹ See Certain Aluminum Foil from the People's Republic of China: Preliminary Results of Antidumping Duty Administrative Review, Partial Rescission of Antidumping Duty Administrative Review, and Preliminary Determination of No Shipments; 2019-2020, 86 FR 35747 (July 7, 2021) (Preliminary Results), and accompanying Preliminary Decision Memorandum.

² See Memorandum, “Certain Aluminum Foil from the People's Republic of China: Extension of Deadline for Final Results of Antidumping Duty Administrative Review,” dated October 28, 2021; see also Memorandum, “Certain Aluminum Foil from the People's Republic of China: Extension of Deadline for Final Results of Antidumping Duty Administrative Review,” dated December 14, 2021.

³ See Memorandum, “Issues and Decision Memorandum for the Final Results of the Antidumping Duty Administrative Review of Certain Aluminum Foil from the People's Republic of China; 2019-2020,” dated concurrently with, and hereby adopted by, this notice (Issues and Decision Memorandum).

The administrative review covers two mandatory respondents: (1) Jiangsu Zhongji Lamination Materials Co., (HK) Ltd.; Jiangsu Zhongji Lamination Materials Stock Co., Ltd.; Jiangsu Zhongji Lamination Materials Co., Ltd.; and Jiangsu Huafeng Aluminum Industry Co., Ltd. (collectively, Zhongji), and (2) Jiangsu Alcha Aluminum Co., Ltd. (Jiangsu Alcha). The administrative review also covers 11 other companies that were not selected for individual examination.⁴

⁴ We incorrectly stated in the Preliminary Results that this administrative review covers 14 companies that were not selected for individual examination. The correct number is 11 companies.

Scope of the Order ⁵

⁵ See Certain Aluminum Foil from the People's Republic of China: Amended Final Determination of Sales at Less Than Fair Value and Antidumping Duty Order, 83 FR 17362 (April 19, 2018) (Order).

The merchandise covered by the Order is aluminum foil from China. For a full description of the scope, see the Issues and Decision Memorandum.

Analysis of Comments Received

All issues raised in interested parties' briefs are addressed in the Issues and Decision Memorandum. A list of the issues raised by interested parties and to which we responded in the Issues and Decision Memorandum is provided in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on our review of the record and comments received from interested parties, we made certain changes to the preliminary margin calculation for Zhongji,⁶ and consequently, to the rate assigned to the non-examined, separate rate respondents.⁷

⁶ See Memorandum, “Zhongji Analysis for the Final Results” (Zhongji Final Analysis Memorandum); Memorandum, “Final Results Surrogate Value Memorandum” (Final Results Surrogate Value Memorandum), both dated concurrently with this notice.

⁷ For details on the changes made since the Preliminary Results, see the Issues and Decision Memorandum.

Final Determination of No Shipments

In the Preliminary Results, we preliminarily determined that Jiangsu Dingsheng New Materials Joint-Stock Co., Ltd.; Hangzhou Teemful Aluminium Co., Ltd.; and Hangzhou Five Star Aluminium Co., Ltd. had no shipments of subject merchandise during the POR.⁸ We received no information to contradict this determination.⁹ Therefore, we continue to find that these companies had no shipments of subject merchandise during the POR and will issue appropriate liquidation instructions that are consistent with our “automatic assessment” clarification for these final results.¹⁰

⁸ See Preliminary Results, 86 FR at 35747.

⁹ We received interested party comments that certain company names contained minor spelling errors in the Preliminary Results, and we have corrected the spellings for these final results. See Issues and Decision Memorandum at Comment 10.

¹⁰ See Non-Market Economy Antidumping Proceedings: Assessment of Antidumping Duties, 76 FR 65694 (October 24, 2011) (Assessment Practice Refinement).

Separate Rate Respondents

In the Preliminary Results, we found that each of the following companies demonstrated its eligibility for separate rate status: (1) Zhongji; (2) Alcha International Holdings Limited; (3) Dingsheng Aluminum Industries (Hong Kong) Trading Co.; (4) Hangzhou Dingsheng Import & Export Co., Ltd.; (5) Hunan Suntown Marketing Limited; (6) Shanghai Huafon Aluminum Corporation; (7) Suntown Technology Group Limited; (8) Xiamen Xiashun Aluminum Foil Co., Ltd,; and (9) Yinbang Clad Materials Co., Ltd. (Yinbang Clad).¹¹ We received comments with respect to Shanghai Huafon Aluminum Corporation; we find that this company was incorrectly included in the preliminary list of companies eligible for a separate rate, and we have removed this company for the final results.¹² We also received comments that certain company names were incorrectly identified in the Preliminary Results, and we have corrected the spellings of these company names for these final results.¹³ We received no other argument since the issuance of the Preliminary Results that provide a basis for reconsideration of these determinations.

¹¹ See Preliminary Results Preliminary Decision Memorandum at 10-14.

¹² See Issues and Decision Memorandum at Comment 11.

¹³ See Issues and Decision Memorandum at Comment 10.

Therefore, we find for these final results that the following companies demonstrated their eligibility for separate rate status: (1) Zhongji; (2) Alcha International Holdings Limited; (3) Dingsheng Aluminium Industries (Hong Kong) Trading Co., Limited (a.k.a Dingsheng Aluminium Industries (Hong Kong) Trading Co., Ltd.); (4) Hangzhou Dingsheng Import&Export Co., Ltd. (a.k.a. Hangzhou Dingsheng Import and Export Co., Ltd.); (5) Hunan Suntown Marketing Limited; (6) Suntown Technology Group Corporation Limited (a.k.a. Suntown Technology Group Co., Ltd.; (7) Xiamen Xiashun Aluminum Foil Co., Ltd, and (8) Yinbang Clad Materials Co., Ltd. (Yinbang Clad).

Rate for Non-Examined Separate Rate Respondents

As noted in the Preliminary Results,¹⁴ the statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually examined respondents, excluding rates that are zero, de minimis, or based entirely on facts available. Where the rates for the individually examined companies are all zero, de minimis, or based entirely on facts available, section 735(c)(5)(B) of the Act provides that Commerce may use “any reasonable method” to establish the all-others rate. In this review, we calculated a rate for Zhongji that is not zero, de minimis, or based entirely on facts available, and we have continued to assign the rate calculated for Zhongji to the companies not selected for individual examination but that are eligible for a separate rate.

¹⁴ See Preliminary Results, 86 FR at 35748.

Final Results of Review

Commerce determines that the following weighted-average dumping margins exist for the period April 1, 2019, through March 31, 2020:

Exporter | Final weighted-average dumping margin (percent)
Jiangsu Zhongji Lamination Materials Co., (HK) Ltd./Jiangsu Zhongji Lamination Materials Stock Co., Ltd./Jiangsu Zhongji Lamination Materials Co., Ltd./Jiangsu Huafeng Aluminum Industry Co., Ltd | 62.02
Review-Specific Rate Applicable to the Following Companies ¹⁵
Alcha International Holdings Limited | 62.02
Dingsheng Aluminium Industries (Hong Kong) Trading Co., Limited (a.k.a Dingsheng Aluminium Industries (Hong Kong) Trading Co., Ltd.) | 62.02
Hangzhou Dingsheng Import&Export Co., Ltd. (a.k.a. Hangzhou Dingsheng Import and Export Co., Ltd.) | 62.02
Hunan Suntown Marketing Limited | 62.02
Suntown Technology Group Corporation Limited (a.k.a. Suntown Technology Group Co., Ltd | 62.02
Xiamen Xiashun Aluminum Foil Co., Ltd | 62.02
Yinbang Clad Materials Co., Ltd | 62.02

¹⁵ Rate applicable to the non-examined separate rate respondents, as discussed above.

Disclosure

Commerce intends to disclose the calculations performed in connection with these final results of review to parties in this review within five days after public announcement of the final results, or, if there is no public announcement, within five days of the date of publication of this notice in the Federal Register, in accordance with 19 CFR 351.224(b).

China-Wide Entity

In the Preliminary Results, Commerce found that Jiangsu Alcha and SNTO International Group Limited (SNTO) did not establish eligibility for a separate rate because SNTO did not file a separate rate application or certification with Commerce, and because Jiangsu Alcha failed to respond to our standard NME antidumping questionnaire. No interested party commented on Commerce's preliminary determination with respect to Jiangsu Alcha and SNTO. Therefore, for these final results, we determine these companies to be part of the China-wide entity.

Commerce's policy regarding conditional review of the China-wide entity applies to this administrative review.¹⁶ Under this policy, the China-wide entity will not be under review unless a party specifically requests, or Commerce self-initiates, a review of the entity. Because no party requested a review of the China-wide entity in this review, the entity is not under review and the entity's rate (i.e., 105.80 percent) is not subject to change.¹⁷

¹⁶ See Antidumping Proceedings: Announcement of Change in Department Practice for Respondent Selection in Antidumping Duty Proceedings and Conditional Review of the Nonmarket Economy Entity in NME Antidumping Duty Proceedings, 78 FR 65963 (November 4, 2013).

¹⁷ See Order, 83 FR 17362.

Assessment Rates

Pursuant to section 751(a)(2)(C) of the Act and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For each individually examined respondent in this review which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(l).¹⁸ We will also calculate estimated ad valorem importer-specific assessment rates with which to determine whether the per-unit assessment rates are de minimis.¹⁹ Where either the respondent's weighted-average dumping margin is zero or de minimis, or an importer- (or customer-) specific assessment rate is zero or de minimis, we will instruct CBP to liquidate the appropriate entries without regard to antidumping duties.²⁰

¹⁸ See Zhongji Final Analysis Memorandum at Attachment 2.

¹⁹ Id.

²⁰ See 19 CFR 351.106(c)(2).

For the respondents which were not selected for individual examination in this administrative review and which qualified for a separate rate, the assessment rate will be equal to the rate assigned to them for the final results (i.e., 62.02 percent). For the companies identified as part of the China-wide entity, we will instruct CBP to apply a per-unit assessment rate of 105.80 percent to all entries of subject merchandise during the POR which were produced or exported by those companies. Pursuant to a refinement in our non-market economy practice, for sales that were not reported in the U.S. sales data submitted by companies individually examined during this review, we will instruct CBP to liquidate entities associated with those sales at the rate for the China-wide entity. Furthermore, where we found that an exporter under review had no shipments of the subject merchandise, any suspended entries that entered under that exporter's case number (i.e., at that exporter's cash deposit rate) will be liquidated at the rate for the China-wide entity.²¹

²¹ For a full description of this practice, see Assessment Practice Refinement, 86 FR 65694.

Cash Deposit Requirements

The following cash deposit requirements will be effective upon publication of the final results of this administrative review for shipments of the subject merchandise from China entered, or withdrawn from warehouse, for consumption on or after the publication date, as provided by section 751(a)(2)(C) of the Act: (1) For the companies identified in the chart above, the cash deposit rate will be equal to the weighted-average dumping margin established in the final results of this review; (2) for previously investigated or reviewed Chinese and non-Chinese exporters not listed above that have received a separate rate in a prior segment of this proceeding, the cash deposit rate will continue to be the existing exporter-specific cash deposit rate published for the completed segment of the most recent period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers Regarding Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Orders (APO)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Interested Parties

We are issuing and publishing these final results of administrative review in accordance with sections 751(a)(1) and 777(i)(1) of the Act.

Dated: December 30, 2021.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Selection of Surrogate Country

Comment 2: HTS Classifications for Certain Material Inputs and By-Products

Comment 3: Ocean Freight

Comment 4: Double Remedies Adjustment

Comment 5: Sales to Foreign Trade Zones

Comment 6: Differential Pricing Methodology

Comment 7: Calculation of Zhongji's Margin

Comment 8: Separate Rate Margin

Comment 9: Selection of Individually Examined Respondents

Comment 10: Correction of Company Names

Comment 11: Review of Shanghai Huafon Aluminum Corporation

VI. Recommendation

[FR Doc. 2022-00080 Filed 1-6-22; 8:45 am]

BILLING CODE 3510-DS-P